DEPARTMENT OF ENERGY

10 CFR Chs. II, III, and X

48 CFR Ch. 9

Fall 2023 Unified Agenda of Regulatory and Deregulatory Actions

AGENCY: Department of Energy.

ACTION: Semiannual Regulatory Agenda.

SUMMARY: The Department of Energy (DOE) has prepared and is making available its portion of the semi-annual Unified Agenda of Federal Regulatory and Deregulatory Actions (Agenda), including its Regulatory Plan (Plan), pursuant to Executive Order (E.O.) 12866, “Regulatory Planning and Review,” as reaffirmed and amended in E.O. 13563, “Improving Regulation and Regulatory Review,” and E.O. 14094, “Modernizing Regulatory Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy and Conservation Act, as amended, and programmatic needs of DOE offices.

The internet is the basic means for disseminating the Agenda and providing users the ability to obtain information from the Agenda database. DOE's entire Fall 2023 Regulatory Agenda can be accessed online by going to www.reginfo.gov.

Publication in the Federal Register is mandated by the Regulatory Flexibility Act (5 U.S.C. 602) only for Agenda entries that require either a regulatory flexibility analysis or periodic review under section 610 of that Act. The Plan appears in both the online Agenda and the Federal Register and includes the most important of DOE's significant regulatory actions and a Statement of Regulatory and Deregulatory Priorities.

Samuel Walsh,
General Counsel.

Energy Efficiency and Renewable Energy—Final Rule Stage
Sequence No. | Title | Regulation Identifier No.
302 | Energy Conservation Standards for Residential Non-Weatherized Gas Furnaces and Mobile Home Gas Furnaces | 1904-AD20
303 | Energy Conservation Standards for Consumer Water Heaters (Reg Plan Seq No. 46) | 1904-AD91
304 | Energy Conservation Standards for Consumer Clothes Washers | 1904-AD98
305 | Energy Conservation Standards for Consumer Boilers | 1904-AE82
306 | Energy Conservation Standards for Miscellaneous Residential Refrigeration | 1904-AF00
References in boldface appear in The Regulatory Plan in part II of this issue of the Federal Register.

Energy Efficiency and Renewable Energy—Completed Actions
Sequence No. | Title | Regulation Identifier No.
307 | Energy Conservation Standards for Residential Conventional Cooking Products | 1904-AD15
308 | Energy Conservation Standards for Commercial Water Heating-Equipment | 1904-AD34
309 | Energy Conservation Standards: Computer Room Air Conditioners | 1904-AF01
310 | Energy Conservation Standards for Dedicated-Purpose Pool Pump Motors | 1904-AF27
311 | Energy Conservation Standards for 3-Phase, Small Commercial Package Air Conditioning and Heating Equipment With a Cooling Capacity of Less Than 65,000 Btu/h | 1904-AF32

Departmental and Others—Final Rule Stage
Sequence No. | Title | Regulation Identifier No.
312 | Statutory Updates to the Advanced Technology Vehicles Manufacturing Incentive Program | 1901-AB60

DEPARTMENT OF ENERGY (DOE)

Energy Efficiency and Renewable Energy (EE)

Final Rule Stage

302. Energy Conservation Standards for Residential Non-Weatherized Gas Furnaces and Mobile Home Gas Furnaces [1904-AD20]

Legal Authority: 42 U.S.C. 6295(f)(4)(C); 42 U.S.C. 6295(m)(1); 42 U.S.C. 6295(gg)(3)

Abstract: The Energy Policy and Conservation Act, as amended, (EPCA) prescribes energy conservation standards for various consumer products and certain commercial and industrial equipment, including the residential furnaces which are the subject of this rulemaking. (42 U.S.C. 6292(a)(5)) EPCA also requires the U.S. Department of Energy (DOE) to determine whether more-stringent amended standards would be technologically feasible and economically justified and would save a significant amount of energy (42 U.S.C. 6295(o)(2)(A) and (3)(B)). EPCA specifically provides that DOE must conduct two rounds of energy conservation standards rulemakings for the residential furnaces at issue (42 U.S.C. 6295(f)(4)(B) and (C)), and the statute also requires that not later than six years after issuance of any final rule establishing or amending a standard, DOE must publish either a notice of determination that standards for the product does not need to be amended, or a notice of proposed rulemaking (NOPR) including new proposed energy conservation standards (42 U.S.C. 6295(m)(1)). This rulemaking is being undertaken pursuant to the statutorily-required second round of rulemaking for non-weatherized gas furnaces (NWGFs) and mobile home gas furnaces (MHGFs), and once completed, it will also satisfy the statutorily-required six-year-lookback review. In the July 7, 2022 NOPR, DOE proposes amended and new energy conservation standards for NWGFs and MHGFs pursuant to a court-ordered remand of DOE's 2011 rulemaking for these products and other statutory requirements. 87 FR 40590. Specifically, the NOPR proposes amended active mode annual fuel utilization efficiency (AFUE) standards at 95 percent for both NWGFs and MHGFs. It also proposes amended standby mode and off mode standards (in watts) at 8.5 watts for both NWGFs and MHGFs. If finalized, the proposed standards would apply to all NWGFs and MHGFs manufactured in, or imported into, the United States starting on the date five years after the publication of the final rule for this rulemaking.

Timetable:

Action | Date | FR Cite
Notice of Public Meeting | 10/30/14 | 79 FR 64517
NPRM and Notice of Public Meeting | 03/12/15 | 80 FR 13120
NPRM Comment Period Extended | 05/20/15 | 80 FR 28851
NPRM Comment Period Extended End | 07/10/15
Notice of Data Availability (NODA) | 09/14/15 | 80 FR 55038
NODA Comment Period End | 10/14/15
NODA Comment Period Reopened | 10/23/15 | 80 FR 64370
NODA Comment Period Reopened End | 11/06/15
Supplemental NPRM and Notice of Public Meeting | 09/23/16 | 81 FR 65720
Supplemental NPRM Comment Period End | 11/22/16
SNPRM Comment Period Reopened | 12/05/16 | 81 FR 87493
SNPRM Comment Period End | 01/06/17
Notice of NPRM Withdrawal | 01/15/21 | 86 FR 3873
NPRM | 07/07/22 | 87 FR 40590
NPRM Comment Period Extended, NODA and Notice of Public Meeting | 08/30/22 | 87 FR 52861
NPRM Comment Period Extended End | 10/06/22
Final Action | 11/00/23

Regulatory Flexibility Analysis Required: Yes.

Agency Contact: Julia Hegarty, Department of Energy, 1000 Independence Avenue SW, Washington, DC 20585, Phone: 240 597-6737, Email: julia.hegarty@ee.doe.gov.

RIN: 1904-AD20

303. Energy Conservation Standards for Consumer Water Heaters [1904-AD91]

Regulatory Plan: This entry is Seq. No. 46 in part II of this issue of the Federal Register.

RIN: 1904-AD91

304. Energy Conservation Standards for Consumer Clothes Washers [1904-AD98]

Legal Authority: 42 U.S.C. 6295(g); 42 U.S.C. 6295(m)

Abstract: Consistent with the requirements under the Energy Policy and Conservation Act (EPCA), as amended, the U.S. Department of Energy (DOE) is examining whether to amend the current energy conservation standards for consumer clothes washers found at 10 CFR 430.32(g). To this end, DOE must determine whether standards more stringent than those currently in place would result in a significant amount of energy savings and whether such amended standards would be technologically feasible and economically justified. DOE has tentatively proposed standards that represent the maximum improvement in energy efficiency that is technologically feasible and economically justified, and would result in the significant conservation of energy. Specifically, with regards to technological feasibility, products achieving these standard levels are already commercially available for all product classes covered by this proposal. As for economic justification, DOE's analysis shows that the benefits of the proposed standard exceed the burdens. Once completed, this rulemaking will fulfill DOE's statutory obligation to either propose amended standards for this product or determine that the standards do not need to be amended.

Additionally, EPCA directs DOE to provide interested persons an opportunity to present oral and written comments on matters related to any energy conservation standard proposed rule. To satisfy this requirement, DOE held an initial public meeting in November 2021 to discuss preliminary materials and a second meeting in March 2023 to specifically discuss the proposed rule. DOE intends address any feedback provided during the March 2023 public meeting in subsequent materials.

Timetable:

Action | Date | FR Cite
Request for Information (RFI) | 08/02/19 | 84 FR 37794
RFI Comment Period Extended | 08/26/19 | 84 FR 44557
RFI Comment Period Extended End | 10/03/19
RFI Comment Period Reopened | 10/03/19 | 84 FR 52818
RFI Comment Period Reopened End | 10/17/19
Preliminary Analysis and Notice of Webinar | 09/29/21 | 86 FR 53886
Public Meeting | 11/10/21
Preliminary Analysis Comment Period Extended | 10/29/21 | 86 FR 59889
Preliminary Analysis Comment Period Extended End | 01/27/22
Notice of Data Availability (NODA) | 04/13/22 | 87 FR 21816
NODA Comment Period End | 05/13/22
NODA Comment Period Reopened | 05/19/22 | 87 FR 30433
NODA Comment Period Reopened End | 05/27/22
NPRM | 03/03/23 | 88 FR 13520
Public Meeting | 03/28/23
NPRM Comment Period Extended | 05/01/23 | 88 FR 26511
NPRM Comment Period Extended End | 05/17/23
Final Action | 12/00/23

Regulatory Flexibility Analysis Required: Yes.

Agency Contact: Bryan D. Berringer, Building Technologies Office, EE-5B, Department of Energy, Energy Efficiency and Renewable Energy, 1000 Independence Avenue SW, Washington, DC 20585, Phone: 202 586-0371, Email: bryan.berringer@ee.doe.gov.

RIN: 1904-AD98

305. Energy Conservation Standards for Consumer Boilers [1904-AE82]

Legal Authority: 42 U.S.C. 6295(m)(1)

Abstract: Consistent with the requirements under the Energy Policy and Conservation Act (EPCA), as amended, the U.S. Department of Energy (DOE) is examining whether to amend the current energy conservation standards in place for consumer boilers found at 10 CFR 430.32(e). As a result of this effort, DOE may propose and adopt more-stringent standards or issue a determination that no amendments to the current standards are required. To this end, DOE must determine whether national standards more stringent than those currently in place would result in a significant amount of energy savings and whether such amended national standards would be technologically feasible and economically justified. Once completed, this rulemaking will fulfill DOE's statutory obligation to either propose and adopt amended standards for this product or determine that the existing standards do not need to be amended.

Timetable:

Action | Date | FR Cite
Request for Information (RFI); Early Assessment Review | 03/25/21 | 86 FR 15804
RFI Comment Period End | 04/26/21
RFI; Early Assessment Comment Period Extended | 04/09/21 | 86 FR 18478
RFI; Early Assessment Comment Period Extended End | 05/26/21
Notice of Webinar and Availability of Preliminary Technical Support Document | 05/04/22 | 87 FR 26304
Preliminary Technical Support Document Comment Period End | 07/05/22
NPRM | 08/14/23 | 88 FR 55128
Notice of Public Meeting and Webinar | 08/31/23 | 88 FR 60152
NPRM Comment Period End | 10/13/23
Final Rule | 07/00/24

Regulatory Flexibility Analysis Required: Yes.

Agency Contact: Julia Hegarty, Department of Energy, 1000 Independence Avenue SW, Washington, DC 20585, Phone: 240 597-6737, Email: julia.hegarty@ee.doe.gov.

RIN: 1904-AE82

306. Energy Conservation Standards for Miscellaneous Residential Refrigeration [1904-AF00]

Legal Authority: 42 U.S.C. 6292(a)(20); 42 U.S.C. 6295(l); 42 U.S.C. 6295(m)

Abstract: The U.S. Department of Energy (DOE) has initiated an effort to consider amending the energy conservation standards for miscellaneous residential refrigeration (e.g., wine coolers and certain other combination consumer refrigeration products). Once completed, this rulemaking will fulfill DOE's statutory obligation to either propose amended energy conservation standards for these products or determine that the existing standards do not need to be amended. To this end, DOE must determine whether national standards more stringent than those currently in place would result in a significant amount of energy savings and whether such amended national standards would be technologically feasible and economically justified.

In the notice of proposed rulemaking, DOE proposed standards that represent the maximum improvement in energy efficiency that is technologically feasible and economically justified, and would result in the significant conservation of energy. Specifically, with regards to technological feasibility products achieving these standard levels are already commercially available for all product classes covered by this proposal. As for economic justification, DOE's analysis shows that the benefits of the proposed standard exceed, to a great extent, the burdens of the proposed standards.

Timetable:

Action | Date | FR Cite
Request for Information (RFI); Early Assessment Review | 12/08/20 | 85 FR 78964
Comment Period End | 02/22/21
Notification of Webinar and Availability of Preliminary Technical Support Document | 01/21/22 | 87 FR 3229
Notice of rescheduled public meeting to March 7, 2022 | 02/09/22 | 87 FR 7396
Preliminary Analysis Comment Period End | 03/22/22
NPRM | 03/31/23 | 88 FR 19382
NPRM Comment Period End | 05/30/23
Final Rule | 07/00/24

Regulatory Flexibility Analysis Required: Yes.

Agency Contact: Lucas Adin, Project Manager, Department of Energy, Energy Efficiency and Renewable Energy, 1000 Independence Avenue SW, Mail Stop EE-5B, Washington, DC 20585, Phone: 202 287-5904, Email: lucas.adin@ee.doe.gov.

RIN: 1904-AF00

DEPARTMENT OF ENERGY (DOE)

Energy Efficiency and Renewable Energy (EE)

Completed Actions

307. Energy Conservation Standards for Residential Conventional Cooking Products [1904-AD15]

Legal Authority: 42 U.S.C. 6295(m)(1); 42 U.S.C. 6292 (a)(10); 42 U.S.C. 6295(h)

Abstract: The Energy Policy and Conservation Act (EPCA), as amended by Energy Independence and Security Act of 2007 (EISA), prescribes energy conservation standards for various consumer products, including consumer conventional cooking products. EPCA also requires the U.S. Department of Energy (DOE) to periodically determine whether more stringent standards would be technologically feasible and economically justified and would result in a significant conservation of energy. In this rulemaking, DOE proposes new and amended energy conservation standards for consumer conventional cooking products and tentatively concludes that the proposed standards represent the maximum improvement in energy efficiency that is technologically feasible and economically justified, and would result in the significant conservation of energy.

On September 25, 2023, the Association of Home Appliance Manufacturers and efficiency and consumer organizations and utilities, submitted a joint letter to DOE recommending new and amended efficiency standards for various home appliances for consideration including for conventional cooking products. Under the authority provided in 42 U.S.C. 6295(p)(4), DOE is now pursuing this effort through a direct final rule, see 1904-AF57.

Completed:

Reason | Date | FR Cite
Supplemental NPRM; Extension of Public Comment Period End | 04/17/23
NODA Comment Period End | 04/03/23
Withdrawn | 11/03/23

Regulatory Flexibility Analysis Required: Yes.

Agency Contact: Carl Shapiro, Phone: 240 315-4339.

RIN: 1904-AD15

308. Energy Conservation Standards for Commercial Water Heating-Equipment [1904-AD34]

Legal Authority: 42 U.S.C. 6313(a)(6)(C)(i) and (vi)

Abstract: The U.S. Department of Energy (DOE) has completed a rulemaking to amend energy conservation standards for commercial water heaters. Now completed, this rulemaking fulfills DOE's statutory obligation under the Energy Policy and Conservation Act, as amended, (EPCA) to either propose amended energy conservation standards for commercial water heaters and hot water supply boilers (CWHs), or determine that the existing standards do not need to be amended. (Unfired hot water storage tanks and commercial heat pump water heaters are being considered in a separate rulemaking.) DOE must determine whether national standards more stringent than those that are currently in place would result in a significant additional amount of energy savings and whether such amended national standards would be technologically feasible and economically justified. In the final rule, DOE concludes, based on clear and convincing evidence that the standards adopted are technologically feasible and economically justified, and would result in significant additional conservation of energy. Specifically, with regards to technological feasibility, CWH equipment achieving the adopted standard levels are already commercially available for all equipment classes covered by the final rule. As for economic justification, DOE's analysis shows that the benefits of the proposed standard exceed, to a great extent, the burdens of the adopted standards.

Completed:

Reason | Date | FR Cite
Final Action | 10/06/23 | 88 FR 69686
Final Action Effective | 12/05/23

Regulatory Flexibility Analysis Required: Yes.

Agency Contact: Julia Hegarty, Phone: 240 597-6737, Email: julia.hegarty@ee.doe.gov.

RIN: 1904-AD34

309. Energy Conservation Standards: Computer Room Air Conditioners [1904-AF01]

Legal Authority: 42 U.S.C. 6313(a)6)(A); 42 U.S.C. 6313(a)(6)(C)(i)

Abstract: This rulemaking for Computer Room Air Conditioners (CRACs) is required under the Energy Policy and Conservation Act (EPCA), as amended, ASHRAE trigger provision at 42 U.S.C. 6313(a)(6)(A). Under the statute, U.S. Department of Energy (DOE) is required to either: (1) establish an amended uniform national standard for this equipment at the minimum level specified in the amended ASHRAE Standard 90.1; or (2) adopt a more-stringent standard, if supported by clear and convincing evidence. To adopt a more-stringent standard, the Secretary must determine, by rule published in the Federal Register, that adoption of such standard would result in significant additional conservation of energy and is technologically feasible and economically justified.

As noted previously, this rulemaking originally started under RIN 1904-AD92, with the publication of a notice of data availability and request for information addressing CRACs on September 11, 2019 (84 FR 48006). However, ASHRAE 90.1-2019 made additional revisions to the efficiency levels for CRACs and newly acted to amend the efficiency levels for 3-Phase Commercial Unitary Air-Cooled Air Conditioners and Heat Pumps Less Than 65,000 Btu/h. Consequently, DOE had bundled these two equipment categories in the rulemaking under RIN 1904-AF01. (Note that the earlier RIN 1904-AD92 also addressed Dedicated Outdoor Air Systems, but since that equipment category saw no further ASHRAE action, DOE is moving forward with that equipment category separately under that RIN.) However, DOE is now addressing consideration of potential amended energy conservation standards for 3-Phase Commercial Unitary Air-Cooled Air Conditioners and Heat Pumps Less Than 65,000 Btu/h in a separate rulemaking under RIN 1904-AF32. Consequently, RIN 1904-AF01 is currently limited to consideration of amended energy conservation standards for CRACs.

In the final rule, DOE is adopting amended energy conservation standards for CRACs that rely on a new efficiency metric and are equivalent to those levels specified in ASHRAE Standard 90.1 2019. DOE has determined that it lacks the clear and convincing evidence required by the statute to adopt standards more stringent than the levels specified in the industry standard.

Completed:

Reason | Date | FR Cite
Final Rule | 06/02/23 | 88 FR 36392
Final Rule Effective | 08/01/23

Regulatory Flexibility Analysis Required: Yes.

Agency Contact: Troy Watson, Phone: 240 449-9387, Email: troy.watson@ee.doe.gov.

RIN: 1904-AF01

310. Energy Conservation Standards for Dedicated-Purpose Pool Pump Motors [1904-AF27]

Legal Authority: 42 U.S.C. 6295(o); 42 U.S.C. 6316(a); 42 U.S.C. 6311(1)(A)

Abstract: The U.S. Department of Energy (DOE) published a final rule adopting energy conservation standards for dedicated-purpose pool pump motors (DPPP), which is a category of electric motor. DOE determined that the standards adopted represent the maximum improvement in energy efficiency that is technologically feasible and economically justified, and would result in the significant conservation of energy. Specifically, equipment are able to achieve these standard levels using technology options currently available in the DPPPM market. As for economic justification, DOE's analysis shows that the benefits of the standards exceed the burdens of the standards.

Completed:

Reason | Date | FR Cite
Final Action | 09/28/23 | 88 FR 66966
Final Action Effective | 11/27/23

Regulatory Flexibility Analysis Required: Yes.

Agency Contact: Jeremy Dommu, Phone: 202 586-9870, Email: jeremy.dommu@ee.doe.gov.

RIN: 1904-AF27

311. Energy Conservation Standards for 3-Phase, Small Commercial Package Air Conditioning and Heating Equipment With a Cooling Capacity of Less Than 65,000 Btu/h [1904-AF32]

Legal Authority: 42 U.S.C. 6313(a)(6)(A); 42 U.S.C. 6313(a)(6)(C)(i)

Abstract: Consistent with the requirements under the Energy Policy and Conservation Act (EPCA), as amended, the Department of Energy (DOE) is examining whether to amend the current energy conservation standards for certain categories of Commercial Air Conditioning and Heating Equipment found at 10 CFR 431.97. As a result of this effort, DOE may either propose and adopt: (1) the amended ASHRAE standard 90.1-2019 levels; or (2) more-stringent standards if supported by “clear and convincing” evidence. DOE has proposed amended energy conservation standards that rely on new efficiency metrics and align with the amended efficiency levels in the industry standard, ASHRAE 90.1-2019. DOE has preliminarily determined that it lacks clear and convincing evidence required by the EPCA to adopt standards more stringent than the levels specified in the industry standard. DOE has also proposed definitions for space-constrained commercial package air conditioning and heating equipment and for small-duct, high-velocity commercial package air conditioning and heating equipment.

In the final rule, DOE is adopting amended energy conservation standards for air cooled, three-phase, small commercial air conditioners and heat pumps with a cooling capacity of less than 65,000 Btu/h and air-cooled, three-phase, variable refrigerant flow air conditioners and heat pumps with a cooling capacity of less than 65,000 Btu/h that rely on new efficiency metrics and align with amended efficiency levels in the industry standard. For the relevant equipment classes, DOE has determined that it lacks clear and convincing evidence required by the statute to adopt standards more stringent than the levels specified in the industry standard.

Completed:

Reason | Date | FR Cite
Final Rule | 06/02/23 | 88 FR 36368
Final Rule Effective | 08/01/23

Regulatory Flexibility Analysis Required: Yes.

Agency Contact: Troy Watson, Phone: 240 449-9387, Email: troy.watson@ee.doe.gov.

RIN: 1904-AF32

DEPARTMENT OF ENERGY (DOE)

Departmental and Others (ENDEP)

Final Rule Stage

312. Statutory Updates to the Advanced Technology Vehicles Manufacturing Incentive Program [1901-AB60]

Legal Authority: 42 U.S.C. 17013(d); 42 U.S.C. 17013(e)

Abstract: The U.S. Department of Energy (DOE) Loan Programs Office (LPO) intends to issue a direct final rule to amend the regulations applicable to the Advanced Technology Vehicles Manufacturing (ATVM) Loan Program authorized by section 136 of the Energy Independence and Security Act of 2007, as amended (42 U.S.C. 17013) to allow parties to apply for direct loans in connection with certain categories projects made eligible for such loans by the Infrastructure Investment and Jobs Act of 2021 and the Inflation Reduction Act. Relatedly, LPO is also pursuing another rulemaking effort via 1901-AB55 to address additional changes for the ATVM Loan Program.

Timetable:

Action | Date | FR Cite
Direct Final Rule | 12/00/23

Regulatory Flexibility Analysis Required: Yes.

Agency Contact: Rebecca Limmer, Chief Counsel, Department of Energy, 1000 Independence Avenue SW, Washington, DC 20585, Phone: 202 586-1174, Email: rebecca.limmer@hq.doe.gov.

RIN: 1901-AB60

[FR Doc. 2024-00452 Filed 2-8-24; 8:45 am]

BILLING CODE 6450-01-P